CONSUMER PRODUCT SAFETY COMMISSION

16 CFR Ch. II

Semiannual Regulatory Agenda

AGENCY: U.S. Consumer Product Safety Commission.

ACTION: Semiannual Regulatory Agenda.

SUMMARY: In this document, the Commission publishes its semiannual regulatory flexibility agenda. In addition, this document includes an agenda of regulations that the Commission expects to develop or review during the next 12 months. This document meets the requirements of the Regulatory Flexibility Act and Executive Order 12866.

DATES: The Commission welcomes comments on the agenda and on the individual agenda entries. Submit comments to the Office of the Secretary on or before March 11, 2024.

ADDRESSES: Caption comments on the regulatory agenda, “Regulatory Flexibility Agenda.” You can submit comments by email to: cpsc-os@cpsc.gov. You can also submit comments by mail or delivery to the Office of the Secretary, U.S. Consumer Product Safety Commission, 4330 East West Highway, Bethesda, MD 20814-4408.

FOR FURTHER INFORMATION CONTACT: For further information on the agenda, in general, contact Michael A. Rogers, Office of the General Counsel, U.S. Consumer Product Safety Commission, 4330 East West Highway, Bethesda, MD 20814-4408, MRogers@cpsc.gov. For further information regarding a particular item on the agenda, contact the person listed in the column titled “Contact” for that item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. Id. In addition, the regulatory flexibility agenda must contain the name and telephone number of an agency official who is knowledgeable about the listed items. Id. Agencies must attempt to provide notice of their agendas to small entities and solicit their comments either by directly notifying them, or by including the agenda in publications that small entities are likely to obtain. Id.

In addition, Executive Order 12866, Regulatory Planning and Review (Sep. 30, 1993), requires each agency to publish, twice a year, a regulatory agenda of regulations under development or review during the next year. 58 FR 51735 (Oct. 4, 1993). The Executive Order states that agencies may combine this agenda with the regulatory flexibility agenda required under the RFA. The agenda required by Executive Order 12866 must include all regulations the agency expects to develop or review during the next 12 months, regardless of whether they may have a significant economic impact on a substantial number of small entities. This fall 2023 agenda also includes regulatory activities that the Commission listed in the spring 2023 agenda and completed before publishing this agenda.

The agenda contains a brief description and summary of each regulatory activity, including the objectives and legal basis for each; an approximate schedule of target dates, subject to revision, for developing or completing each activity; and the name and telephone number of an agency official who is knowledgeable about items in the agenda.

The internet is the primary means for disseminating the Unified Agenda. The complete Unified Agenda will be available online at www.reginfo.gov, in a format that allows users to obtain information from the agenda database.

Because agencies must publish in the Federal Register the regulatory flexibility agenda required by the RFA (5 U.S.C. 602), the Commission's printed agenda entries include only:

(1) rules that are in the agency's regulatory flexibility agenda, in accordance with the RFA, because they are likely to have a significant economic impact on a substantial number of small entities; and

(2) rules that the agency has identified for periodic review under section 610 of the RFA (5 U.S.C. 610).

The entries in the Commission's printed agenda are limited to fields that contain information that the RFA requires in an agenda. Additional information on these entries is available in the Unified Agenda published on the internet.

The agenda reflects the Commission's assessment of the likelihood that the specified event will occur during the next year; the precise dates for each rulemaking are uncertain. New information, changes of circumstances, or changes in the law, may alter anticipated timing. In addition, this agenda does not represent a final determination by the Commission or its staff regarding the need for, or the substance of, any rule or regulation.

Alberta E. Mills,
Secretary, Consumer Product Safety Commission.

Consumer Product Safety Commission—Proposed Rule Stage
Sequence No. | Title | Regulation Identifier No.
512 | Regulatory Options for Table Saws (Reg Plan Seq No. 230) | 3041-AC31
References in boldface appear in The Regulatory Plan in part II of this issue of the Federal Register.

Consumer Product Safety Commission—Final Rule Stage
Sequence No. | Title | Regulation Identifier No.
513 | Portable Generators (Reg Plan Seq No. 232) | 3041-AC36
References in boldface appear in The Regulatory Plan in part II of this issue of the Federal Register.

Consumer Product Safety Commission—Long-Term Actions
Sequence No. | Title | Regulation Identifier No.
514 | Recreational Off-Road Vehicles | 3041-AC78

Consumer Product Safety Commission—Completed Actions
Sequence No. | Title | Regulation Identifier No.
515 | Petition Requesting a Ban or Standard on Adult Portable Bed Rails | 3041-AD30

CONSUMER PRODUCT SAFETY COMMISSION (CPSC)

Proposed Rule Stage

512. Regulatory Options for Table Saws [3041-AC31]

Regulatory Plan: This entry is Seq. No. 230 in part II of this issue of the Federal Register.

RIN: 3041-AC31

CONSUMER PRODUCT SAFETY COMMISSION (CPSC)

Final Rule Stage

513. Portable Generators [3041-AC36]

Regulatory Plan: This entry is Seq. No. 232 in part II of this issue of the Federal Register.

RIN: 3041-AC36

CONSUMER PRODUCT SAFETY COMMISSION (CPSC)

Long-Term Actions

514. Recreational Off-Road Vehicles [3041-AC78]

Legal Authority: 15 U.S.C. 2056; 15 U.S.C. 2058

Abstract: Staff conducted testing and evaluation programs to develop performance requirements addressing vehicle stability, vehicle handling, and occupant protection. In 2014, the Commission issued a notice of proposed rulemaking (NPRM) proposing standards addressing vehicle stability, vehicle handling, and occupant protection for recreational off-road vehicles (ROVs). Congress directed in fiscal year 2016, and reaffirmed in subsequent fiscal year appropriations, that none of the amounts made available by the Appropriations Bill may be used to finalize or implement the proposed Safety Standard for Recreational Off-Highway Vehicles until after the National Academy of Sciences completes a study to determine specific information, as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the Fiscal Year 2020 Operating Plan, the Commission directed staff to prepare a rulemaking termination briefing package. Staff submitted a briefing package to the Commission on September 16, 2020 that recommended termination of the rulemaking. On September 22, 2020, the Commission voted 2-2 on this matter. A majority was not reached and no action is being taken.

Timetable:

Action | Date | FR Cite
Staff Sends ANPRM Briefing Package to Commission | 10/07/09
Commission Decision | 10/21/09
ANPRM | 10/28/09 | 74 FR 55495
ANPRM Comment Period Extended | 12/22/09 | 74 FR 67987
Extended Comment Period End | 03/15/10
Staff Sends NPRM Briefing Package to Commission | 09/24/14
Staff Sends Supplemental Information on ROVs to Commission | 10/17/14
Commission Decision | 10/29/14
NPRM Published in Federal Register | 11/19/14 | 79 FR 68964
NPRM Comment Period Extended | 01/23/15 | 80 FR 3535
Extended Comment Period End | 04/08/15
Staff Sends Briefing Package Assessing Voluntary Standards to Commission | 11/22/16
Commission Decision Not to Terminate | 01/25/17
Staff Sends Briefing Package to Commission | 09/16/20
Commission Decision: Majority Not Reached, No Action Will be Taken | 09/22/20
Next Step Undetermined | To Be Determined

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

CONSUMER PRODUCT SAFETY COMMISSION (CPSC)

Completed Actions

515. Petition Requesting a Ban or Standard on Adult Portable Bed Rails [3041-AD30]

Legal Authority: 5 U.S.C. 553(e); 15 U.S.C. 2056; 15 U.S.C. 2058

Abstract: The Commission received two requests, one from consumer advocate Gloria Black, the Consumer Federation of America, and 60 other organizations, and the second from Public Citizen, asking that the Commission initiate proceedings under section 8 of the Consumer Product Safety Act (CPSA) to determine whether adult portable bed rails pose an unreasonable risk of injury and initiate related rulemaking under section 9 of the CPSA. The Commission is considering them as a single petition. After reviewing a briefing package from staff in 2014, the Commission voted to defer the petition. The Commission subsequently directed staff to assess the progress of the voluntary standard development and to make a recommendation on whether the Commission should grant the petition and initiate rulemaking. The new voluntary standard was published in August 2017. Staff evaluated the new voluntary standard and performed product testing to assess conformance, and provided the Commission with a briefing package in July 2020, with the recommendation to continue deferring the petition. On March 9, 2022, staff submitted to the Commission a briefing package, supplementing the 2020 briefing package, and recommending that the Commission grant the petition. On March 15, 2022, the Commission voted to grant the petition and directed staff to draft a notice of proposed rulemaking (NPRM) to adopt a safety standard under CPSA section 9. On September 21, 2022, staff submitted an NPRM briefing package to the Commission. The Commission published the proposed rule on November 9, 2022. The public comment period ended on January 9, 2023. The Commission published a final rule on July 21, 2023.

Timetable:

Action | Date | FR Cite
Petition Docketed | 05/15/13
Notice for Comment Published in Federal Register | 06/04/13 | 78 FR 33393
Comment Period End | 08/05/13
Staff Sends Briefing Package to Commission | 04/23/14
Commission Voted to Defer the Petition | 05/01/14
Staff Provided Commission a 6-Month Update on the Voluntary Standards Process | 11/04/14
Staff Provided Commission a 12-Month Update on Voluntary Standards | 04/22/15
Staff Provided Commission a 9-Month Update on Voluntary Standards Process | 02/03/16
Staff Provided Commission Update on Voluntary Standards Process | 09/27/16
Staff Provided Commission Update on Voluntary Standards Process | 09/27/17
Staff Sends Status Briefing Package to Commission | 07/15/20
Staff Sends Briefing Package to Commission | 03/09/22
Commission Decision on Petition | 03/15/22
Staff Sends NPRM Briefing Package to Commission | 09/21/22
Commission Decision | 10/13/22
NPRM publishes | 11/09/22 | 87 FR 67586
NPRM Comment Period End | 01/09/23
Staff sends Final Rule briefing package to Commission | 06/28/23
Final Rule | 07/21/23 | 88 FR 46958

Regulatory Flexibility Analysis Required: Yes.

Agency Contact: Vineed Dayal, Project Manager, Directorate for Laboratory Sciences, Consumer Product Safety Commission, 5 Research Place, National Product Testing and Evaluation Center, Rockville, MD 20850,Phone: 301 987-2292, Email: vdayal@cpsc.gov.

RIN: 3041-AD30

[FR Doc. 2024-00465 Filed 2-8-24; 8:45 am]

BILLING CODE 6355-01-P